DEPARTMENT OF EDUCATION

34 CFR Chapter III

[Docket ID ED-2024-OSERS-0001]

Proposed Priorities and Requirements—Technical Assistance on State Data Collection—National Technical Assistance Center To Improve State Capacity To Collect, Report, Analyze, and Use Accurate Early Childhood IDEA Data

AGENCY: Office of Special Education and Rehabilitative Services, Department of Education.

ACTION: Proposed priorities and requirements.

SUMMARY: The Department of Education (Department) proposes priorities and requirements for a National Technical Assistance Center To Improve State Capacity To Collect, Report, Analyze, and Use Accurate Early Childhood IDEA Data (Center) under the Technical Assistance on State Data Collection program, Assistance Listing Number (ALN) 84.373Z. The Department may use these priorities and requirements for competitions in fiscal year (FY) 2024 and later years. We take this action to identify the national need to provide technical assistance (TA) to improve the capacity of States to meet the early childhood data collection and reporting requirements under Part B and Part C of the Individuals with Disabilities Education Act (IDEA).

DATES: We must receive your comments on or before May 7, 2024.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Meredith Miceli, U.S. Department of Education, 400 Maryland Avenue SW, Room 4A10, Washington, DC 20202. Telephone: (202) 987-0135. Email: Meredith.Miceli@ed.gov.

If you are deaf, hard of hearing, or have a speech disability and wish to access telecommunications relay services, please dial 7-1-1.

SUPPLEMENTARY INFORMATION:

Invitation to Comment: We invite you to submit comments regarding the proposed priorities and requirements. To ensure that your comments have maximum effect in developing the final priorities and requirements, we urge you to identify clearly the specific section of the proposed priorities and requirements that each comment addresses.

Directed Question: Given that Congress has not yet enacted an appropriation for FY 2024, the Department is considering whether it may use a phased-in funding approach to this investment, with smaller awards in the initial years of the project and higher awards in later years. The Department requests specific public comment on the extent to which such an approach would require substantive changes to the proposed priority and whether there are particular areas of focus (e.g., data sharing templates, data analyses tools) that may benefit from a phased-in approach.

We invite you to assist us in complying with the specific requirements of Executive Orders 12866, 13563, and 14094 and their overall requirement of reducing regulatory burden that might result from these proposed priorities and requirements. Please let us know of any further ways we could reduce potential costs or increase potential benefits while preserving the effective and efficient administration of the program.

During and after the comment period, you may inspect public comments about the proposed priorities and requirements by accessing Regulations.gov. To inspect comments in person, please contact the person listed under FOR FURTHER INFORMATION CONTACT.

Assistance to Individuals with Disabilities in Reviewing the Rulemaking Record: On request we will provide an appropriate accommodation or auxiliary aid to an individual with a disability who needs assistance to review the comments or other documents in the public rulemaking record for these proposed priorities and requirements. If you want to schedule an appointment for this type of accommodation or auxiliary aid, please contact the person listed under FOR FURTHER INFORMATION CONTACT.

Purpose of Program: The purpose of the Technical Assistance on State Data Collection program is to improve the capacity of States to meet IDEA data collection and reporting requirements. Funding for the program is authorized under section 611(c)(1) of IDEA, which gives the Secretary authority to reserve not more than one-half of one percent of the amounts appropriated under Part B for each fiscal year to provide TA activities, where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of sections 616 and 642 of IDEA are collected, analyzed, and accurately reported to the Secretary. It also requires the Secretary to provide TA, where needed, to improve the capacity of States to meet the data collection requirements, which include the data collection and reporting requirements in sections 616 and 618 of IDEA. In addition, the Consolidated Appropriations Act, 2023, Public Law 117-328, gives the Secretary authority to use funds reserved under section 611(c) of IDEA to “administer and carry out other services and activities to improve data collection, coordination, quality, and use under Parts B and C of the IDEA.” Consolidated Appropriations Act, 2023, Public Law 117-328, Division H, Title III, 136 Stat. 4459, 4891 (2022).

Program Authority: 20 U.S.C. 1411(c), 1416(i), 1418(c), 1418(d), 1442; Consolidated Appropriations Act, 2023, Public Law 117-328, Division H, Title III, 136 Stat. 4459, 4891 (2022).

Applicable Program Regulations: 34 CFR 300.702.

Proposed Priorities

This document contains two proposed priorities.

Proposed Priority 1: National Technical Assistance Center To Improve State Capacity To Collect, Report, Analyze, and Use Accurate Early Childhood IDEA Data.

Background:

The purpose of this proposed priority is to establish a TA center to provide TA to (1) improve States' capacity to collect, report, analyze, and use high-quality IDEA Part C early intervention data (including IDEA section 618 Part C data and section 616 Part C data) and IDEA Part B preschool special education data ¹ (limited to Part B preschool data elements required under IDEA sections 616 and 618 ²); and (2) enhance, streamline, and integrate statewide, child-level early childhood data systems (including Part C and Part B preschool special education data systems) to address critical policy questions that would facilitate program improvement and improve compliance accountability and outcomes or results for children served under Part C early intervention and Part B preschool special education programs.

¹ Throughout this document, “IDEA Part B preschool special education data” refers to IDEA Part C data (including IDEA section 618 Part C data and IDEA section 616 Part C data) and IDEA Part B preschool special education data on children with disabilities, ages 3 through 5, required under section 616 of IDEA for those indicators that are not solely based on IDEA section 618 data (e.g., SPP/APR Indicators B7 (Preschool Children with Improved Outcomes) and B12 (Transition from Part C to Part B).

² TA on the other Part B data required under sections 616 and 618 of IDEA would be provided through the proposed priority in the notice of proposed priority and requirements for the National Technical Assistance Center to Improve State Capacity to Collect, Report, Analyze, and Use Accurate IDEA Part B Data (ALN 84.373Y).

Recently, there have been increased expectations for State Part C early intervention and Part B preschool special education programs to collect, report, analyze, and use high-quality data. State-level staff in Part C early intervention and Part B preschool special education programs are expected to report higher quality data, be able to provide more in-depth explanations of the data, use the data to improve programs, compliance, and general supervision of Part C early intervention and Part B preschool special education programs, and present the data in an understandable fashion to all data users, including novice data users. Under the EDFacts Modernization Project, which began with the submission of the 2022-23 IDEA section 618 data, the Office of Special Education Programs (OSEP) is expecting States to conduct data quality work prior to the due date for States to submit their data; this work was previously completed by OSEP after the due date. Additionally, beginning with the Federal fiscal year 2022 State Performance Plan/Annual Performance Report (SPP/APR) (submitted in 2024), State Part C early intervention programs must report additional data and information to support the assumption that the data reported for indicator C4 (Family Involvement) ³ are representative of those infants and toddlers with disabilities and their families receiving services in their State. Also, State-level staff in Part C early intervention and Part B preschool special education programs are expected to analyze and use data to support and provide evidence of compliance with requirements of IDEA and improvement of results for children with disabilities through OSEP's Differentiated Monitoring and Support as part of the results-driven accountability system. Finally, there is an expectation that States present their data in a format that engages stakeholders to participate in important discussions about program improvement and accountability compliance.

³ Indicator C4 requires States to report on the percent of families participating in Part C who report that early intervention services have helped the family: (a) know their rights; (b) effectively communicate their children's needs; and (c) help their children develop and learn.

As IDEA data expectations have evolved and increased, there is a need to support both experienced and new data staff who work in Part C early intervention and Part B preschool special education programs. In 2023, approximately 17 percent of the State data managers for Part C early intervention programs had been in the job less than a year and approximately 23 percent had only been in the job between one and three years. The IDEA Infants and Toddlers Coordinators Association (ITCA) reported that 51 percent of Part C coordinators have been in the position for two years or less in their 2022 Tipping Points Survey (ITCA, 2022).⁴ In 2023, approximately 59 percent of Part B preschool special education coordinators had three or less years of experience (Early Childhood Technical Assistance Center, 2023).⁵ Due to the continued turnover among Part C early intervention and Part B preschool special education staff, there is a need to support new and novice staff to collect, report, analyze, and appropriately use the IDEA data.

⁴ For more information on ITCA's 2022 Tipping Points Survey, please go to 2022 Tipping Points Survey (ideainfanttoddler.org). www.ideainfanttoddler.org/pdf/2022-Tipping-Points-Survey.pdf.

⁵ Early Childhood Technical Assistance Center. (2023). Part B, section 619 National Survey 2023. https://ectacenter.org/sec619/sec619survey.asp.

Due to increased expectations on the collection, reporting, analysis, and use of IDEA data and staff turnover, there is a need to find efficient, effective, and user-friendly approaches to conducting the early childhood IDEA data work. Improved data management processes, as well as the growing development of linked and integrated child-level data in Part C data systems, Part B preschool special education data systems, other early learning program data systems, and statewide longitudinal data systems for school-aged children, are key approaches for States in meeting these increased expectations. States need to establish and implement effective early childhood data management and, where appropriate, data system integration policies and procedures to support program improvement, compliance accountability, and Federal and public reporting. Improved policies and procedures would allow States, where appropriate, to link or integrate child-level data in Part C data systems, Part B preschool special education data systems, other early learning program data systems, and statewide longitudinal data systems for school-aged children. An early childhood integrated data system (ECIDS) could help States to identify what works best to improve outcomes for young children in their States. For instance, an ECIDS provides the opportunity for States to assess which characteristics of services are related to better outcomes for children and families or the relationship between early childhood setting and early childhood outcomes. An ECIDS that includes data from across various early care and education programs could also improve child find activities in the State by identifying strong referral sources and those where more outreach may be needed. An ECIDS could also help States determine the other early care and education programs that young children with disabilities and their families are participating in, allowing States to maximize efficiency in the operation of the early intervention or early childhood special education program while maintaining or improving outcomes.

Building robust ECIDSs that include Part C early intervention data and Part B preschool special education data would improve responses to critical policy questions, facilitate program improvement, and improve compliance accountability for Part C early intervention and Part B preschool special education programs. This level of integration would help ensure that States report high-quality IDEA data to the Department and the public.

Though some improvements have been made over the last 10 years in linking and integrating Part C early intervention and Part B preschool special education data to data from other early learning programs, K-12 data systems, and the workforce, as well as longitudinally over time, the percent of State programs that report they can make these linkages remained low in 2021. Less than 40 percent of Part C early intervention and Part B preschool special education programs that responded said they can link their child-level data to their workforce data. Less than 30 percent of Part C early intervention programs that responded said their State links Part C child-level data to Early Head Start, Head Start, State Pre-K, childcare programs, home visiting programs, or other early care or education programs. Most Part C early intervention programs that responded said they have never linked their Part C data to their Part B preschool special education data.⁶

⁶ Perez, N., & Mercier, B. (2022). 2021 DaSy data systems (State of the States) survey findings. SRI International. https://dasycenter.org/wp-content/uploads/2022/12/DaSy_2021DaSyDataSystemsSurveyFindings_Acc.pdf.

This proposed priority would directly address the increased expectations and capacity challenges Part C early intervention and Part B preschool special education programs face with respect to effectively and efficiently collecting, reporting, analyzing, and using high-quality IDEA data.

Proposed Priority 1:

The purpose of this proposed priority is to fund a cooperative agreement to establish and operate a National Technical Assistance Center to Improve State Capacity to Collect, Report, Analyze, and Use Accurate Early Childhood IDEA Data (Center).

The Center will provide TA to (1) improve States' capacity to collect, report, analyze, and use high-quality IDEA Part C data (including IDEA section 618 Part C data and IDEA section 616 Part C data) and IDEA Part B preschool special education data on children with disabilities; and (2) enhance, streamline, and integrate statewide, child-level early childhood data systems (including Part C and Part B preschool special education data systems) to address critical policy questions that will facilitate program improvement, improve compliance accountability, and improve outcomes or results for children served under Part C and Part B preschool special education programs. These Part C early intervention and Part B preschool special education data systems must allow the States to (1) effectively and efficiently respond to all IDEA-related data submission requirements (e.g., Part C section 616 and 618 data and Part B preschool special education data); (2) respond to critical policy questions that will facilitate program improvement and compliance accountability; and (3) comply with applicable privacy requirements, including the privacy and confidentiality requirements under Parts B and C of IDEA and applicable provisions of the Family Educational Rights and Privacy Act (20 U.S.C. 1232g) and its regulations at 34 CFR part 99.⁷ The Center must achieve, at a minimum, the following expected outcomes:

⁷ The Center must review the need for additional resources (with input from the Department) and disseminate existing resources developed by the Department, such as: (1) Understanding the Confidentiality Requirements Applicable to IDEA Early Childhood Programs (October 2016); (2) IDEA/FERPA Crosswalk (Surprenant & Miller, August 24, 2022); (3) Webinars such as Navigating IDEA and FERPA To Protect Privacy in Today's Early Childhood World (September 22, 2023); and (4) Data sharing agreement template.

(a) Increased capacity of States to collect, report, analyze, and use high-quality IDEA Part C data (including IDEA section 616 Part C data and section 618 Part C data);

(b) Increased capacity of States to collect, report, analyze, and use high-quality IDEA Part B preschool special education data;

(c) Increased number of States with data system integration plans that consider the linking of Part C and Part B preschool special education data (that comply with all applicable privacy laws) and using such integrated or linked Part C early intervention and Part B preschool special education data to improve program compliance and accountability;

(d) Increased number of States that use their Part C early intervention and Part B preschool special education data system to identify and answer critical State-determined policy questions to drive program improvement, improve results for children with disabilities, and improve compliance accountability;

(e) Increased capacity of States to use available integrated or linked Part C early intervention and Part B preschool special education data and/or early childhood integrated data systems to analyze high-quality data on the participation and outcomes of infants, toddlers, and children with disabilities served under IDEA who may also participate in other programs (e.g., childcare, Early Head Start, Head Start, child care, publicly funded preschool, and home visiting programs);

(f) Increased number of States with data system integration plans that consider linking of Part C and Part B preschool special education data systems to other statewide longitudinal and early learning data systems and ensure that such linkages comply with all applicable privacy laws;

(g) Increased capacity of States to implement and document Part C and Part B preschool special education data management policies and procedures and data system integration activities and to develop a sustainability plan to continue this data management and data system integration work in the future;

(h) Increased capacity of States to address personnel training needs to meet the Part C and Part B preschool special education data collection and reporting requirements under sections 616 and 618 of IDEA through development of effective tools (e.g., training modules) and resources (e.g., new Part C Data Managers resources), as well as providing opportunities for in-person and virtual cross-State training for personnel in State and local programs and agencies regarding Part C early intervention and Part B preschool special education data collection and reporting requirements; and

(i) Increased capacity of States to collect, report, analyze, and use Part C and Part B preschool special education data to support equitable identification, access, services, outcomes, and impact of early intervention and preschool special education and related services on infants, toddlers, and young children receiving services under IDEA.

In addition, the Center must provide a range of targeted and general TA products and services for improving States' capacity to link and integrate their Part C early intervention and Part B preschool special education data with data/data systems associated with other Federal programs that support infants, toddlers, and young children and their families in order to report high-quality Part C data and Part B preschool special education data required under sections 616 and 618 of IDEA, drive program improvement, improve results for children with disabilities, and improve compliance accountability. Such TA must include, at a minimum, in Years 2 through 5:

(a) In partnership with the Department, developing an open-source electronic tool to assist States in linking and integrating their Part C early intervention and Part B preschool special education data with other data/data systems associated with other Federal programs that support infants, toddlers, and young children and their families in order to provide high-quality reporting of the Part C data and Part B preschool special education data required under sections 616 and 618 of IDEA, drive program improvement, improve results for children with disabilities, and improve compliance accountability. The tool must utilize Common Education Data Standards (CEDS) and meet States' needs associated with linking or integrating their Part C early intervention and Part B preschool special education data with other data/data systems associated with other Federal programs that support infants, toddlers, and young children and their families;

(b) Developing CEDS “Connections” to ensure the electronic tool is built for States to conduct analyses related to reporting the IDEA Part C data and IDEA Part B preschool special education data required under sections 616 and 618 of IDEA, driving program improvement, improving results for children with disabilities, and improving compliance accountability;

(c) Developing and implementing a plan to maintain the appropriate functionality of the open-source electronic tool described in paragraph (a) of this section as changes are made to data reporting requirements and CEDS;

(d) Conducting TA on data governance to facilitate the use of the open-source electronic tool and providing training to State staff to implement the open-source electronic tool; and

(e) Supporting a user group of States that are using an open-source electronic tool for reporting the IDEA Part C data and IDEA Part B preschool special education data required under sections 616 and 618 of IDEA.

In addition to these programmatic requirements, to be considered for funding under this priority, applicants must meet the application and administrative requirements under Proposed Priority 1 and Proposed Priority 2 Common Elements.

Proposed Priority 2: Technical Assistance To Improve State Capacity To Collect, Report, Analyze, and Use Accurate Child Find Data For Infants and Toddlers.

Background: The purpose of this proposed priority is to establish a TA center to provide TA to increase the capacity of States to collect, report, analyze, and use data available to States to improve their Part C child find data and efforts that they report through their Part C SPP/APR.

On October 5, 2023, the U.S. Government Accountability Office (GAO) issued a report “Special Education: Additional Data Could Help Early Intervention Programs Reach More Eligible Infants and Toddlers” noting variation across racial groups at each step of the identification and enrollment process for early intervention services under Part C of IDEA (GAO-24-106019)(2023 GAO IDEA Part C Child Find Report).⁸ Based on an analysis of data from 16 States, GAO found that the percentage of infants and toddlers who engaged in the first two steps (from referred to evaluated) differed widely by race. However, the percentage of infants and toddlers who engaged in the third to the fourth step (from eligible to enrolled) looked similar across races. For example, the percentage of infants and toddlers who were referred and subsequently received an evaluation ranged from 59 percent for American Indian and Alaska Native children to 86 percent for Asian children (a 27 percentage-point difference). In contrast, the percentage of those determined eligible and subsequently enrolled ranged from 91 percent for American Indian or Alaska Native children to 95 percent for Asian and White children (a four percentage-point difference).

⁸ The GAO Report and the Department's response concurring with the recommendation can be found at www.gao.gov/assets/d24106019.pdf.

Specifically, the 2023 GAO IDEA Part C Child Find Report had one matter for Congress and one recommendation for the Department, to which the Department agreed. GAO recommended that the Department encourage all States to use demographic data they already collect to maximize children's access to Part C early intervention services. In its September 13, 2023 response, the Department noted its plans to implement this recommendation. The Department has established that, beginning with the Federal fiscal year (FFY) 2023 SPP/APR that States submit in February 2024, all States should report under SPP/APR child find indicators C-5 and C-6 on their root cause analysis of their child find efforts by using all data available to the State and not just the child find data reported under SPP/APR Indicators C-5 and C-6.⁹ Additionally, beginning with the FFY 2023 SPP/APR, a State must report this root cause analysis if the State shows slippage in the FFY 2023 data it reports under SPP/APR indicators C-5 and C-6.¹⁰

⁹ Per the Part C State Performance Plan and Annual Performance Report (Part C SPP/APR) General Instructions, “If a State is required to report on the reasons for slippage, then the State must include the results of its analysis under the “Additional Information” section of Indicators 5 and 6.” Part C State Performance Plan and Annual Performance Report (Part C SPP/APR)—General Instructions—For Federal Fiscal Year 2023 Submission.

¹⁰ For the FFY 2023 SPP/APR Indicators C-5 and C-6, the Department noted that “to improve the analysis of whether States are identifying children who need services as early as possible, States should conduct root cause analyses of child find identification rates, including reviewing data (if available) on the number of children referred, evaluated, and identified. This root cause analysis may include examining not only demographic data (such as race and ethnicity data reported under IDEA section 618 and Indicators C-5 and C-6), but also other child-find related data available to the State (such as geographic location, family income, primary language, etc.). The State should report the results of its analysis under the “Additional Information” section of the Indicators C-5 and C-6. Furthermore, if a State is required to report on the reasons for slippage, then the State must include the results of its analysis under the “Additional Information” section of the Indicators C-5 and C-6.” See, https://omb.report/icr/202305-1820-001/doc/131687100.

Though many State Part C programs already use demographic data on infants and toddlers to identify disparities and improve access to Part C services, not all States have implemented similar analyses of other data that can affect child find identification rates. Analysis of child find data that could be relevant would include not only analysis of race and ethnicity data reported under IDEA section 618, but would also include analysis of other child-find related data available to the State (such as geographic location, family income, and primary language). Conducting analyses of these other child find-related data would enable all State Part C programs to better identify and serve infants and toddlers who are eligible for, and need services under, Part C of IDEA. To support equitable access to early intervention services under Part C of IDEA, this proposed priority would provide TA to States as they begin reporting on their root cause analyses using all available child find-related data to improve their data analyses, child find efforts, and children's access to early intervention services under Part C of IDEA.

Proposed Priority 2:

The purpose of this priority is to fund TA to increase the capacity of States to collect, report, analyze, and use available data to improve the Part C child find data they report through their Part C SPP/APR.

The Center must achieve, at a minimum, the following expected outcomes:

(a) Increased capacity of States to collect, report, analyze, and use available data to improve the Part C child find data (including IDEA section 616 Part C data for indicators C5 and C6 and section 618 Part C data);

(b) Increased number of States that have the capacity to identify, for children served under IDEA Part C, other data they may collect (such as number of infants and toddlers: referred; screened; evaluated; eligible; and enrolled in early intervention services under Part C) by various characteristics of the child, including, at a minimum: race, ethnicity, home language, gender, socio-economic status, and geographic location;

(c) Increased number of States that have the capacity to conduct a root cause analysis of available child find data to better identify disparities among demographic groups and potential barriers to enrollment in early intervention services under Part C of IDEA; and

(d) Increased number of States that have the capacity to use their IDEA and non-IDEA Part C child find data to improve the child find processes at the State and local program levels.

In addition to these program requirements, to be considered for funding under this proposed priority, applicants must meet the application and administrative requirements under Proposed Priority 1 and Proposed Priority 2 Common Elements.

Proposed Priority 1 and Proposed Priority 2 Common Elements:

In addition to the program requirements contained in both priorities, to be considered for funding applicants must meet the following application and administrative requirements, which are:

(a) Demonstrate, in the narrative section of the application under “Significance,” how the proposed project will—

(1) Address State challenges associated with early childhood data management and data system integration, including implementing early childhood data system integration and improvements; enhancing and streamlining Part C early intervention and Part B preschool special education data systems to respond to critical policy questions; using ECIDS for program improvement and compliance accountability for Part C early intervention and Part B preschool special education programs; reporting high-quality IDEA Part C data (including IDEA section 616 Part C data and section 618 Part C data) and IDEA Part B preschool special education data to the Department and the public; and analyzing Part C child find data to improve equitable access to Part C early intervention services. To meet this requirement the applicant must—

(i) Present applicable national, State, or local data demonstrating the challenges of States to implement effective early childhood data management policies and procedures and data system integration activities, including integrating early childhood data systems across IDEA programs, other early learning programs, and other educational programs for school-aged students; linking Part C and Part B preschool special education program data; using their Part C and Part B preschool special education data systems to respond to critical State-determined policy questions for program improvement and compliance accountability; and collecting, reporting, analyzing, and using Part C child find data to improve equitable access to Part C early intervention services;

(ii) Demonstrate knowledge of current educational and technical issues and policy initiatives relating to early childhood data management and data system integration, data use, data privacy, Part C IDEA sections 616 and 618 data, Part C child find data, Part B preschool special education data, and Part C and Part B preschool special education data systems; and

(iii) Present information about the current level of implementation of integrating or linking Part C and Part B preschool special education data systems; integrating or linking Part C and/or Part B preschool special education data systems with other early learning data systems; using Part C and Part B preschool special education data systems to respond to critical State-determined policy questions; and collecting, reporting, analyzing, and using high-quality IDEA Part C data (including IDEA section 616 Part C data and section 618 Part C data) and IDEA Part B preschool special education data; and

(2) Improve early childhood data management policies and procedures and data system integration activities used to collect, report, and analyze high-quality Part C and Part B preschool special education data (including Part C child find data); to integrate or link Part C and Part B preschool special education data systems as well as integrate or link these data with data on children participating in other early learning programs and data on school-aged children; and to develop and use robust early childhood data systems to answer critical State-determined policy questions; and indicate the likely magnitude or importance of the improvements.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that products and services meet the needs of the intended recipients of the grant;

(2) Achieve its goals, objectives, and intended outcomes. To meet this requirement, the applicant must provide—

(i) Measurable intended project outcomes; and

(ii) In appendix A, the logic model (as defined in 34 CFR 77.1) by which the proposed project will achieve its intended outcomes, which depicts, at a minimum, the goals, activities, outputs, and intended outcomes of the proposed project;

(3) Use a conceptual framework (and provide a copy in appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of evidence-based ¹¹ practices (EBPs). To meet this requirement, the applicant must describe—

¹¹ For purposes of these requirements,”evidence-based” means, at a minimum, demonstrating a rationale (as defined in 34 CFR 77.1) based on high-quality research findings or positive evaluation that such activity, strategy, or intervention is likely to improve student outcomes or other relevant outcomes.

(i) The current research on early childhood data management and data system integration, and related EBPs; and

(ii) How the proposed project will incorporate current research and EBPs in the development and delivery of its products and services;

(5) Develop products and provide services that are of high quality and sufficient intensity and duration to achieve the intended outcomes of the proposed project. To address this requirement, the applicant must describe—

(i) How it proposes to identify and develop the knowledge base on early childhood data management and data system integration;

(ii) Its proposed approach to universal, general TA,¹² which must identify the intended recipients, including the type and number of recipients, that will receive the products and services under this approach; and

¹² “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) Its proposed approach to targeted, specialized TA,¹³ which must identify—

¹³ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services under this approach;

(B) Its proposed approach to measure the readiness of potential TA recipients to work with the project, assessing, at a minimum, their current infrastructure, available resources, and ability to build capacity at the State and local levels; and

(C) The process by which the proposed project will collaborate with OSEP-funded centers and other federally funded TA centers to develop and implement a coordinated TA plan when the work of the center or centers overlaps with the proposed project; and

(iv) Its proposed approach to intensive, sustained TA,¹⁴ which must identify—

¹⁴ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to addressing States' challenges associated with limited resources to engage in early childhood data system integration and enhancement activities that streamline the established Part C and Part B preschool special education data systems to respond to critical policy questions and to report high-quality IDEA data to the Department and the public, which must, at a minimum, include providing on-site consultants to the State lead agency (LA) or State educational agency (SEA) to—

(1) Model and document data management and data system integration policies, procedures, processes, and activities within the State;

(2) Develop and adapt tools and provide technical solutions to meet State-specific data needs; and

(3) Develop a sustainability plan for the State to continue the data management and data system integration work in the future;

(C) Its proposed approach to measure the readiness of the State LA and SEA personnel to work with the project, including their commitment to the initiative, alignment of the initiative to their needs, current infrastructure, available resources, and ability to build capacity at the State and local program and district levels;

(D) Its proposed approach to prioritizing TA recipients with a primary focus on meeting the needs of States with known ongoing data quality issues, as measured by OSEP's review of the quality of the IDEA sections 616 and 618 data;

(E) Its proposed plan for assisting State LAs and SEAs to build or enhance training systems that include professional development based on adult learning principles and coaching;

(F) Its proposed plan for working with appropriate levels of the education system (e.g., State LAs, SEAs, regional TA providers, districts, local programs, families) to ensure that there is communication between each level and that there are systems in place to support the collection, reporting, analysis, and use of high-quality IDEA Part C data (including IDEA section 616 Part C data, section 618 Part C data, and Part C child find data) and IDEA Part B preschool special education data as well as early childhood data management and data system integration; and

(G) Its proposed plan for collaborating and coordinating with the National Technical Assistance Center to Improve State Capacity to Collect, Report, Analyze, and Use Accurate IDEA Part B Data, Early Childhood Technical Assistance Center, other Department-funded TA investments, other federally funded TA investments, and Institute of Education Sciences/National Center for Education Statistics research and development investments, where appropriate, in order to align complementary work and jointly develop and implement products and services to meet the purposes of this priority and to develop and implement a coordinated TA plan when they are involved in a State; and

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the project evaluation,” include an evaluation plan for the project developed in consultation with and implemented by a third-party evaluator.¹⁵ The evaluation plan must—

¹⁵ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model required in paragraph (b)(2)(ii) of these application and administrative requirements;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the APR and at the end of Year 2; and

(5) Dedicate sufficient funds in each budget year to cover the costs of developing or refining the evaluation plan in consultation with a third-party evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits and funds will be spent in a way that increases their efficiency and cost-effectiveness, including by reducing waste or achieving better outcomes.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

(ii) A three-day project directors' conference in Washington, DC, during each year of the project period, provided that, if the conference is conducted virtually, the project must reallocate unused travel funds no later than the end of the third quarter of each budget period.

(iii) Three annual two-day trips to attend Department briefings, Department-sponsored conferences, and other meetings, as requested by OSEP;

(3) Provide an assurance that the project will—

(i) Reallocate unused travel funds no later than the end of the third quarter if the kick-off or planning meetings are conducted virtually; and

(ii) Within 30 days of receipt of the award, participate in a post-award teleconference between the OSEP project officer and the grantee's project director or other authorized representative;

(4) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(5) Budget at least 50 percent of the grant award for providing targeted and intensive TA to States;

(6) Provide an assurance that it will maintain a high-quality website, with an easy-to-navigate design, that meets government or industry-recognized standards for accessibility; and

(7) Include, in appendix A, an assurance to assist OSEP with the transfer of pertinent resources and products and to maintain the continuity of services to States during the transition to this new award period and at the end of this award period, as appropriate.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities and Requirements:

We will announce the final priorities and requirements in a document in the Federal Register. We will determine the final priorities and requirements after considering public comments on the proposed priorities and requirements and other information available to the Department. This document does not preclude us from proposing additional priorities, requirements, definitions, or selection criteria, subject to meeting applicable rulemaking requirements.

Note: This document does not solicit applications. In any year in which we choose to use these proposed priorities and one or more of these requirements, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise novel legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand.

The Secretary invites comments on how to make these proposed priorities and requirements easier to understand, including answers to questions such as the following:

• Are the requirements in the proposed priorities and requirements clearly stated?

• Do the proposed priorities and requirements contain technical terms or other wording that interferes with their clarity?

• Does the format of the proposed priorities and requirements (grouping and order of sections, use of headings, paragraphing, etc.) aid or reduce their clarity?

• Would the proposed priorities and requirements be easier to understand if we divided them into more (but shorter) sections?

• Could the description of the proposed priorities and requirements in the SUPPLEMENTARY INFORMATION section of this preamble be more helpful in making the proposed priorities and requirements easier to understand? If so, how?

• What else could we do to make the proposed priorities and requirements easier to understand?

To send any comments about how the Department could make these proposed priorities and requirements easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that these proposed priorities and requirements would not have a significant economic impact on a substantial number of small entities. The small entities that this proposed regulatory action would affect are LEAs, including charter schools that operate as LEAs under State law; institutions of higher education; other public agencies; private nonprofit organizations; freely associated States and outlying areas; Indian Tribes or Tribal organizations; and for-profit organizations. We believe that the costs imposed on applicants by the proposed priorities and requirements would be limited to paperwork burden related to preparing an application and that the benefits would outweigh any costs incurred by applicants.

Participation in the Technical Assistance on State Data Collection program is voluntary. For this reason, the proposed priorities and requirements would impose no burden on small entities unless they applied for funding under the program. We expect that in determining whether to apply for Technical Assistance on State Data Collection program funds, an eligible entity would evaluate the requirements of preparing an application and any associated costs and weigh them against the benefits likely to be achieved by receiving a Technical Assistance on State Data Collection program grant. An eligible entity probably would apply only if it determines that the likely benefits exceed the costs of preparing an application.

We believe that these proposed priorities and requirements would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995

These proposed priorities and requirements contain information collection requirements that are approved by OMB under OMB control number 1820-0028. The proposed priorities and requirements do not affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-03631 Filed 2-21-24; 8:45 am]

BILLING CODE 4000-01-P